FEDERAL RESERVE SYSTEM

Formations of, Acquisitions by, and Mergers of Bank Holding Companies; Correction

This notice corrects a notice (FR Doc. E6-4063) published on page 14220 of the issue for Tuesday, March 21, 2006.

Under the Federal Reserve Bank of Chicago heading, the entry for Capitol Bancorp, Ltd., Lansing, Michigan, is revised to read as follows:

A. Federal Reserve Bank of Chicago (Patrick M. Wilder, Assistant Vice President) 230 South LaSalle Street, Chicago, Illinois 60690-1414:

1. Capitol Bancorp, Ltd., Lansing, Michigan; to acquire 51 percent of the voting shares of Sunrise Bank of Atlanta, Atlanta, Georgia (in organization), and Capitol Development Bancorp Limited IV, Lansing, Michigan; to become a bank holding company by acquiring 51 percent of the voting shares of Sunrise Bank of Atlanta, Atlanta, Georgia (in organization).

Comments on this application must be received by April 14, 2006.

Board of Governors of the Federal Reserve System, March 22, 2006.
Robert deV. Frierson,
Deputy Secretary of the Board.

[FR Doc. E6-4354 Filed 3-24-06; 8:45 am]

BILLING CODE 6210-01-S